DEPARTMENT OF HEALTH AND HUMAN SERVICES

Centers for Disease Control and Prevention

Solicitation of Nominations for Appointment to the Advisory Committee to the Director, Centers for Disease Control and Prevention; Notice of Extension

AGENCY: Centers for Disease Control and Prevention, Department of Health and Human Services (HHS).

ACTION: Notice.

SUMMARY: In accordance with the Federal Advisory Committee Act, the Centers for Disease Control and Prevention (CDC), within the Department of Health and Human Services (HHS), is seeking nominations for membership on the Advisory Committee to the Director, Centers for Disease Control and Prevention (ACD, CDC). The ACD, CDC consists of up to 15 experts knowledgeable in areas pertinent to the CDC mission, such as public health, global health, health disparities, biomedical research, and other fields, as applicable.

DATES: The deadline for submission of nominations for membership on the ACD, CDC published May 8, 2024, at 89 FR 38900, is extended. Nominations for membership on the ACD, CDC must be received no later than July 8, 2024. Late nominations will not be considered for membership.

ADDRESSES: All nominations (cover letters, reference letters, and curriculum vitae/resumes) should be emailed to ACDirector@cdc.gov with the subject line: “Nomination for CDC ACD.”

FOR FURTHER INFORMATION CONTACT: Tiffany Brown, J.D., M.P.H., Office of the Chief of Staff, Centers for Disease Control and Prevention, 1600 Clifton Road NE, Mailstop H21-10, Atlanta, Georgia 30329-4027. Telephone: (404) 498-6655; Email: ACDirector@cdc.gov.

SUPPLEMENTARY INFORMATION: The deadline for nominations for appointment to the Advisory Committee to the Director, Centers for Disease Control and Prevention has been extended from June 7, 2024, to July 8, 2024. The original solicitation of nominations notice was published in the Federal Register on May 8, 2024, Volume 89, Number 90, page 38900.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-11871 Filed 5-29-24; 8:45 am]

BILLING CODE 4163-18-P